DEPARTMENT OF THE INTERIOR

Bureau of Ocean Energy Management

[Docket No. BOEM-2013-00]

Notice of Determination of No Competitive Interest, Offshore Virginia

AGENCY: Bureau of Ocean Energy Management (BOEM), Interior.

ACTION: Notice of Determination of No Competitive Interest (DNCI) for a Proposed Outer Continental Shelf (OCS) Research Lease Offshore Virginia.

SUMMARY: This notice provides BOEM's determination that there is no competitive interest in the area requested by the Commonwealth of Virginia, Department of Mines, Minerals and Energy (DMME) to acquire an OCS research lease as described in the Request for Competitive Interest (RFCI): Research Lease for Renewable Energy on the Outer Continental Shelf Offshore Virginia, that BOEM published on December 21, 2012, (77 FR 75656-75658). The RFCI described the proposal submitted to BOEM by the DMME to acquire an OCS lease for wind energy research activities on the OCS off the coast of Virginia, and provided an opportunity for the public to submit comments about the proposal.

DATES: Effective March 15, 2013.

FOR FURTHER INFORMATION CONTACT: Mr. Casey Reeves, Project Coordinator, BOEM, Office of Renewable Energy Programs, 381 Elden Street, HM 1328, Herndon, Virginia 20170, (703) 787-1320.

SUPPLEMENTARY INFORMATION:

Authority

This DNCI is published pursuant to subsection 8(p)(3) of the OCS Lands Act (43 U.S.C. 1337(p)(3)), which was added by section 388 of the Energy Policy Act of 2005 (EPAct), and the implementing regulations at 30 CFR part 585. Subsection 8(p)(3) of the OCS Lands Act requires that OCS renewable energy leases, easements, and rights-of-way be issued “on a competitive basis unless the Secretary [of the Interior] determines after public notice of a proposed lease, easement, or right-of-way (ROW) that there is no competitive interest.” The Secretary delegated the authority to make such determinations to BOEM.

Determination and Next Steps

This DNCI provides notice to the public that BOEM has determined there is no competitive interest in the proposed research lease area, as no indications of competitive interest were submitted in response to the RFCI.

In the December 2012 RFCI, BOEM also solicited public comment on the proposed lease area and the proposed DMME research project and any potential impacts that the project may have. In response to the RFCI, BOEM received public comment submissions from four entities none of which expressed competitive interest in the proposed research lease area. However, BOEM will use the comments that it received to inform its subsequent decisions. After the publication of this DNCI, BOEM will proceed with the research lease issuance process outlined at 30 CFR 585.238.

Map of the Area

A map of the area proposed for a research lease can be found at the following URL: http://www.boem.gov/Renewable-Energy-Program/State-Activities/Virginia.aspx.

Dated: March 4, 2013.
Tommy P. Beaudreau,
Director, Bureau of Ocean Energy Management.

[FR Doc. 2013-06051 Filed 3-14-13; 8:45 am]

BILLING CODE 4310-MR-P